DEPARTMENT OF LABOR

Office of the Secretary

Submission for OMB Review; Comment Request

February 20, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on (202) 693-4129 or e-mail: King-Darrin@dol.gov.

Comments should be sent to Office of Information and Regulatory Affairs, Attn: OMB Desk Officer for MSHA, Office of Management and Budget, Room 10235, Washington, DC 20503, (202) 395-7316, within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Mine Safety and Health Administration (MSHA).

Type of Review: Extension of a currently approved collection.

Title: Approval, Exhaust Gas Monitoring, and Safety Requirements for the Use of Diesel-Powered Equipment in Underground Coal Mines.

OMB Number: 1219-0119.

Frequency: On Occasion.

Affected Public: Business or other for-profit.

Type of Public: Recordkeeping and Reporting.

Number of Respondents: 114.

Annual Responses: 101,944.

Estimated Time Per Respondent: 0.57 hours (34 minutes).

Total Burden Hours: 58,265.

Total Annualized Capital/Startup Costs: $60,492.

Total Annual Costs (operating/maintaining systems or purchasing services): $316,140.

Description: 30 CFR parts 7, 36, 70, and 75 mandate safety requirements in three major areas of concern: diesel engine design and testing requirements; safety standards for the maintenance and use of equipment; and exhaust gas. The information collection requirements in these provisions are necessary to protect the health and safety of miners.

Darrin A. King,
Acting Departmental Clearance Officer.

[FR Doc. 03-5049 Filed 3-3-03; 8:45 am]

BILLING CODE 4510-23-M